DEPARTMENT OF ENERGY

Federal Energy Regulatory Commission

[Docket No. ER00-1142-000, et al.]

Wisconsin Electric Power Company, et al.; Electric Rate and Corporate Regulation Filings

January 28, 2000.

Take notice that the following filings have been made with the Commission:

1. Wisconsin Electric Power Company

[Docket No. ER00-1142-000]

Take notice that on January 19, 2000. Wisconsin Electric Power Company filed their quarterly report for the quarter ending December 31, 1999.

Comment date: February 17, 2000, in accordance with Standard Paragraph E at the end of this notice.

2. Southern Indiana Gas and Electric Company

[Docket No. ER00-1154-000]

Take notice that on January 19, 2000, Southern Indiana Gas & Electric Company filed their quarterly report for the quarter ending December 31, 1999.

Comment date: February 17, 2000, in accordance with Standard Paragraph E at the end of this notice.

3. Minnesota Power, Inc.; Kansas City Power & Light Company

[Docket Nos. ER00-1174-000, ER00-1176-000]

Take notice that on January 20, 2000, the above-mentioned affiliated power producers and/or public utilities filed their quarterly reports for the quarter ending December 31, 1999.

Comment date: February 17, 2000, in accordance with Standard Paragraph E at the end of this notice.

4. Duke Power a Division of Duke Energy Corporation

[Docket No. ER00-1184-000]

Take notice that on January 20, 2000, Duke Power (Duke), a division of Duke Energy Corporation, tendered for filing a Service Agreement with TXU Energy Trading Company for power sales at market-based rates. Duke states that this filing is in accordance with Part 35 of the Federal Energy Regulatory Commission's (Commission) Regulations (18 CFR Part 35).

Duke requests that the proposed Service Agreement be permitted to become effective on November 2, 1999.

Duke states that a copy of this filing has been served on the North Carolina Utilities Commission.

Comment date: February 9, 2000, in accordance with Standard Paragraph E at the end of this notice.

5. Duke Power a Division of Duke Energy Corporation

[Docket No. ER00-1185-000]

Take notice that on January 20, 2000, Duke Power (Duke), a division of Duke Energy Corporation, tendered for filing a Service Agreement with Statoil Energy Services, Inc. for power sales at market-based rates. Duke states that this filing is in accordance with Part 35 of the Federal Energy Regulatory Commission's (Commission) Regulations (18 CFR Part 35).

Duke requests that the proposed Service Agreement be permitted to become effective on January 14, 2000.

Duke states that a copy of this filing has been served on the North Carolina Utilities Commission.

Comment date: February 9, 2000, in accordance with Standard Paragraph E at the end of this notice.

6. Carolina Power & Light Company

[Docket No. ER00-1186-000]

Take notice that on January 20, 2000, Carolina Power & Light Company (CP&L) tendered for filing an executed Service Agreement with Coral Power, L.L.C. under the provisions of CP&L's Market-Based Rates Tariff, FERC Electric Tariff No. 4. This Service Agreement supersedes the un-executed Agreement originally filed in Docket No. ER98-3385-000 and approved effective May 18, 1998.

Copies of the filing were served upon the North Carolina Utilities Commission and the South Carolina Public Service Commission.

Comment date: February 9, 2000, in accordance with Standard Paragraph E at the end of this notice.

7. Southwest Power Pool, Inc.

[Docket No. ER00-1187-000]

Take notice that on January 20, 2000, Southwest Power Pool, Inc. (SPP) tendered for filing executed service agreements for firm point-to-point transmission service and loss compensation service under the SPP Tariff with Southwestern Electric Power Company as Designated Agent for Tex-La Electric Cooperative of Texas, Inc (Tex-La).

Copies of this filing were served on Tex-La.

SPP requests an effective date of January 1, 2000 for each of these service agreements.

Comment date: February 9, 2000, in accordance with Standard Paragraph E at the end of this notice.

8. Potomac Electric Power Company

[Docket No. ER00-1188-000]

Take notice that on January 29, 2000, Potomac Electric Power Company (Pepco) tendered for filing a service agreement pursuant to Pepco FERC Electric Tariff, Original Volume No. 4, entered into between Pepco and Reliant Energy Services, Inc.

An effective date of September 29, 1999 for these service agreements, with waiver of notice, is requested.

Comment date: February 9, 2000, in accordance with Standard Paragraph E at the end of this notice.

9. Niagara Mohawk Power Corporation

[Docket No. ER00-1191-000]

Take notice that on January 21, 2000, Niagara Mohawk Power Corporation tendered for filing an Interconnection Agreement between Niagara Mohawk Power Corporation and PSEG Power New York Inc. dated as of January 10, 2000.

Niagara Mohawk Power Corporation requests an effective date of February 15, 2000 or, if later, the closing date of the sale of the Albany generating facility. To the extent necessary, Niagara Mohawk requests waiver of the Commission requirement that a rate schedule be filed not less than 60 days or more than 120 days from its effective date.

Comment date: February 10, 2000, in accordance with Standard Paragraph E at the end of this notice.

10. Cabrillo Power I LLC; Cabrillo Power II LLC

[Docket No. ER00-1192-000]

Take notice that on January 21, 2000, Cabrillo Power I LLC and Cabrillo Power II LLC (Cabrillo I & II) tendered for filing their annual update filing governing Reliability Must Run (RMR) services provided by their power plants to the California Independent System Operator Corporation (ISO). Cabrillo I & II's filing includes an agreed upon one-year extension of the RMR Agreements, and provides updates to various Schedules appended to the RMR Agreements related to Contract Service Limits, Target Available Hours, and pre-paid Start-up Charges under the RMR Service Agreements.

Cabrillo I & II have requested an effective date of January 1, 2000.

Copies of this filing have been served upon the ISO, the California Electricity Oversight Board, and the California Public Utilities Commission.

Comment date: February 10, 2000, in accordance with Standard Paragraph E at the end of this notice.

11. EnerZ Corporation

[Docket No. ER00-1193-000]

Take notice that on January 21, 2000, EnerZ Corporation (EnerZ) filed a Notice of Cancellation of its Rate Schedule FERC No. 1, with a proposed effective date of January 31, 2000. EnerZ is no longer engaged in the power marketing business, will not conduct power marketing activities in the future, and has no outstanding power sales contracts; accordingly, no purchasers will be affected by this notice.

Comment date: February 10, 2000, in accordance with Standard Paragraph E at the end of this notice.

12. Pennsylvania Electric Company

[Docket No. ER00-1194-000]

Take notice that on January 21, 2000, Pennsylvania Electric Company (doing business and hereinafter referred to as GPU Energy) submitted for filing amendments to the 115 kV Seward-Conemaugh Interconnection Agreement Between GPU Energy and Atlantic City Electric Company, Baltimore Gas and Electric Company, Delmarva Power & Light Company, Metropolitan Edison Company, Pennsylvania Power and Light Company, Philadelphia Electric Company, Potomac Electric Power Company, Public Service Electric and Gas Company, and the United Gas Improvement Company. The amendments modify Schedule 1 and Schedule 2 of the Interconnection Agreement.

Comment date: February 10, 2000, in accordance with Standard Paragraph E at the end of this notice.

13. Northern Indiana Public Service Company; Jersey Central Power & Light Company

[Docket Nos. ER00-1195-000, ER00-1196-000]

Take notice that on January 21, 2000, the above-mentioned affiliated power producers and/or public utilities filed their quarterly reports for the quarter ending December 31, 1999.

Comment date: February 17, 2000, in accordance with Standard Paragraph E at the end of this notice.

14. El Paso Merchant Energy, L.P.

[Docket No. ER00-1197-000]

Take notice that on January 21, 2000, El Paso Merchant Energy, L.P. filed a Notice of Succession in Ownership or Operation which hereby adopts, ratifies and makes its own in every respect all applicable rate schedules, and supplements thereto, listed below, heretofore filed with the Federal Energy Regulatory Commission by El Paso Power Services Company and Sonat Power Marketing L.P., effective December 31, 1999.

El Paso Power Services Company—Rate Schedule FERC No. 1 (Market-Based Rate Schedule)

Sonat Power Marketing L.P.—Rate Schedule FERC No. 1 (Market-Based Rate Schedule)

Comment date: February 10, 2000, in accordance with Standard Paragraph E at the end of this notice.

15. El Paso SPM Company

[Docket No. ER00-1198-000]

Take notice that on January 21, 2000, El Paso SPM Company, 1001 Louisiana Street, Houston, Texas 77002, filed a Notice of Succession in Ownership or Operation which hereby adopts, ratifies, and makes its own, in every respect all applicable rate schedules, and supplements thereto, listed below, heretofore filed with the Federal Energy Regulatory Commission by Sonat Power Marketing Inc., effective December 31, 1999.

Rate Schedule FERC No. 1 (Market-Based Rate Schedule)

Comment date: February 10, 2000, in accordance with Standard Paragraph E at the end of this notice.

16. Cinergy Services, Inc.

[Docket No. ER00-1206-000]

Take notice that on January 24, 2000, Cinergy Services, Inc., collectively as agent for and on behalf of its utility operating company affiliates, The Cincinnati Gas & Electric Company and PSI Energy, Inc. (Cinergy), tendered for filing a service agreement under Cinergy's Market-Based Power Sales Standard Tariff-MB (the Tariff) entered into between Cinergy and Clinton Energy Management, Inc. (3CEMS).

Cinergy and CEMS are requesting an effective date of January 1, 2000.

Comment date: February 11, 2000, in accordance with Standard Paragraph E at the end of this notice.

17. Sunbury Generation, LLC

[Docket No. ER00-1170-000]

Take notice that on January 19, 2000, Sunbury Generation, LLC (Sunbury), tendered for filing a Power Purchase Agreement between Sunbury and WPS Energy Services, Inc., (PPA).

Sunbury requests that the Commission waive its notice of filing requirements to allow the PPA to become effective on January 20, 2000.

Comment date: February 8, 2000, in accordance with Standard Paragraph E at the end of this notice.

18. Soyland Power Cooperative, Inc.

[Docket No. ER00-1204-000]

Take notice that on January 24, 2000, Soyland Power Cooperative, Inc. (Soyland), tendered for filing with the Federal Energy Regulatory Commission a Service Agreement between Soyland and Clinton Electric Cooperative, Inc., dated December 15, 1999, and Amendment No. 1 to such Service Agreement dated January 11, 2000. During the terms of the Service Agreement and Amendment No. 1, Soyland will provide firm short-term power to Clinton. Clinton was formerly a member of Soyland, but left Soyland as of December 31, 1997. The Service Agreement represents a decrease in rates when compared to the rates paid by Clinton as a Soyland member as of December 31, 1997. Soyland seeks Commission authorization to provide power according to the terms and rates of the Service Agreement and Amendment No. 1 to Clinton with an effective date of January 1, 2000.

Soyland also seeks a waiver of the commission 60 day prior notice requirements. The power sale will provide Clinton with all of its requirements for the period January 1 through February 29, 2000. Clinton has submitted a Certificate of Concurrence indicating its acceptance of the rates and terms of the Service Agreement and Amendment No. 1.

A copy of this filing was served on Clinton Electric Cooperative, Inc.

Comment date: February 11, 2000, in accordance with Standard Paragraph E at the end of this notice.

19. WPS Energy Services, Inc.

[Docket No. ER00-1169-000]

Take notice that on January 19, 2000, WPS Energy Services, Inc. (ESI), tendered for filing a Brokering and Dispatch Agreement (Agreement) between ESI and Sunbury Generation, LLC (Sunbury).

ESI requests that the Commission waive its notice of filing requirements to allow the Agreement to become effective on January 20, 2000.

Comment date: February 8, 2000, in accordance with Standard Paragraph E at the end of this notice.

20. Cleco Utility Group Inc.

[Docket No. ER00-1153-000]

Take notice that on January 19, 2000, Cleco Utility Group Inc., Transmission services (CLECO), tendered for filing service agreements for non-firm and short term firm point-to-point transmission services under its Open Access Transmission Tariff with Williams Energy Marketing & Trading Company.

CLECO requests an effective date of January 17, 2000.

Comment date: February 8, 2000, in accordance with Standard Paragraph E at the end of this notice.

21. Southwestern Public Service Company

[Docket No. ER00-1168-000]

Take notice that on January 24, 2000, New Century Services, Inc. (NCS), on behalf of Southwestern Public Service Company (SPS), tendered for filing pursuant to Section 205 of the Federal Power Act and Part 35 of the Commission's Regulations, an amendment to it January 19, 2000, filing of an agreed-upon rate reduction for full requirements service to Caprock Electric Cooperative, Inc., Central Valley Electric Cooperative, Inc., Farmers' Electric Cooperative, Inc., Lea County Electric Cooperative, Inc., Lyntegar Electric Cooperative, Inc., and Roosevelt Electric Cooperative, Inc., and Service Agreement for Network Transmission Service between SPS Wholesale Merchant Function and SPS Transmission Function. The amendment corrects one page of each rate schedule that was incorrectly redlined in the January 19, 2000 filing.

NCS proposes that the amended filing become effective January 14, 2000.

Copies of this filing were served upon the affected purchasers under the rate schedules and the state commissions within whose jurisdiction SPS sells electricity under the affected rate schedules.

Comment date: February 11, 2000, in accordance with Standard Paragraph E at the end of this notice.

22. Puget Sound Energy, Inc.

[Docket No. ER00-1211-000]

Take notice that on January 24, 2000, Puget Sound Energy, Inc. (PSE), tendered for filing a Service Agreement under the provisions of PSE's market-based rates tariff, FERC Electric Tariff, First Revised Volume No. 8, with QST Energy Trading, Inc., (QST).

A copy of the filing was served upon QST.

Comment date: February 11, 2000, in accordance with Standard Paragraph E at the end of this notice.

23. Puget Sound Energy, Inc.

[Docket No. ER00-1212-000]

Take notice that on January 24, 2000, Puget Sound Energy, Inc. (PSE), tendered for filing a Service Agreement under the provisions of PSE's market-based rates tariff, FERC Electric Tariff, First Revised Volume No. 8, with NP Energy Inc.

A copy of the filing was served upon NP Energy Inc.

Comment date: February 11, 2000, in accordance with Standard Paragraph E at the end of this notice.

24. Puget Sound Energy, Inc.

[Docket No. ER00-1210-000]

Take notice that on January 24, 2000, Puget Sound Energy, Inc. (PSE), tendered for filing a Service Agreement under the provisions of PSE's market-based rates tariff, FERC Electric Tariff, First Revised Volume No. 8, with PECO Energy (PECO).

A copy of the filing was served upon PECO.

Comment date: February 11, 2000, in accordance with Standard Paragraph E at the end of this notice.

25. Cinergy Services, Inc.

[Docket No. ER00-1208-000]

Take notice that on January 24, 2000, Cinergy Services, Inc. (Cinergy), tendered for filing a Non-Firm Point-To-Point Service Agreement under Cinergy's Open Access Transmission Service Tariff (the Tariff) entered into between Cinergy and Consumers Energy Company (Consumers).

Cinergy and Consumers are requesting an effective date of one date after this filing.

Comment date: February 11, 2000, in accordance with Standard Paragraph E at the end of this notice.

26. Soyland Power Cooperative, Inc.

[Docket No. ER00-1205-000]

Take notice that on January 24, 2000, Soyland Power Cooperative, Inc. (Soyland), tendered for filing with the Federal Energy Regulatory Commission a Service Agreement between Soyland and Tri-County Electric Cooperative, Inc., dated December 16, 1999, and Amendment No. 1 to such Service Agreement dated January 12, 2000. During the terms of the Service Agreement and Amendment No. 1, Soyland will provide firm short-term power to Tri-County. Tri-County was formerly a member of Soyland, but left Soyland as of December 31, 1997. The Service Agreement represents a decrease in rates when compared to the rates paid by Tri-County as a Soyland member as of December 31, 1997. The power sale will provide Tri-County with all of its requirements for the period January 1 through February 29, 2000. Tri-County has submitted a Certificate of Concurrence indicating its acceptance of the rates and terms of the Service Agreement and Amendment No. 1.

Soyland seeks Commission authorization to provide power according to the terms and rates of the Service Agreement and Amendment No. 1 to Tri-County with an effective date of January 1, 2000. Soyland also seeks a waiver of the commission 60 day prior notice requirements.

A copy of this filing was served on Tri-County Electric Cooperative, Inc.

Comment date: February 11, 2000, in accordance with Standard Paragraph E at the end of this notice.

27. Central Power and Light Company

[Docket No. ER00-1203-000]

Take notice that on January 24, 2000, Central Power and Light Company (CPL), tendered for filing an Interconnection Agreement between CPL and Duke Energy Hidalgo, L.P., (Duke).

CPL requests an effective date for the Interconnection Agreement of November 12, 1999. Accordingly, CPL requests waiver of the Commission's notice requirements.

CPL states that a copy of the filing was served on Duke and the Public Utility Commission of Texas.

Comment date: February 11, 2000, in accordance with Standard Paragraph E at the end of this notice.

28. FirstEnergy System

[Docket No. ER00-1201-000]

Take notice that on January 24, 2000, FirstEnergy System filed a Service Agreement to provide Firm Point-to-Point Transmission Service for ACN Power, Inc., the Transmission Customer. Services are being provided under the FirstEnergy System Open Access Transmission Tariff submitted for filing by the Federal Energy Regulatory Commission in Docket No. ER97-412-000.

The proposed effective date under this Service Agreement is January 7, 2000 for the above mentioned Service Agreement in this filing.

Comment date: February 11, 2000, in accordance with Standard Paragraph E at the end of this notice.

29. Indeck Pepperell Power Associates

[Docket No. ER00-1202-000]

Take notice that on January 24, 2000, Indeck Pepperell Power Associates, Inc. (Indeck Pepperell), tendered for filing with the Federal Energy Regulatory Commission a Power Purchase and Sale Agreement (Service Agreement) between Indeck Pepperell and Niagara Mohawk Energy Marketing, Inc. (NMEM), dated December 21, 1999, for service under Indeck Pepperell's Rate Schedule FERC No. 1.

Indeck Pepperell requests that the Service Agreement be made effective as of December 21, 1999.

Comment date: February 11, 2000, in accordance with Standard Paragraph E at the end of this notice.

30. FirstEnergy System

[Docket No. ER00-1200-000]

Take notice that on January 24, 2000, FirstEnergy System filed a Service Agreement to provide Non-Firm Point-to-Point Transmission Service for: ACN Power, Inc. , the Transmission Customer. Services are being provided under the FirstEnergy System Open Access Transmission Tariff submitted for filing by the Federal Energy Regulatory Commission in Docket No. ER97-412-000.

The proposed effective date under this Service Agreement is January 07, 2000 for the above mentioned Service Agreement in this filing..

Comment date: February 11, 2000, in accordance with Standard Paragraph E at the end of this notice.

31. Cinergy Services, Inc.

[Docket No. ER00-1209-000]

Take notice that on January 21, 2000, Cinergy Services, Inc. (Cinergy), tendered for filing a Firm Point-To-Point Service Agreement under Cinergy's Open Access Transmission Service Tariff (the Tariff) entered into between Cinergy and Consumers Energy Company (Consumers).

Cinergy and Consumers are requesting an effective date of one day after this filing.

Comment date: February 10, 2000, in accordance with Standard Paragraph E at the end of this notice.

32. Cinergy Services, Inc.

[Docket No. ER00-1221-000]

Take notice that on January 24, 2000, Cinergy Services, Inc. (Cinergy), tendered for filing a Firm Point-To-Point Service Agreement under Cinergy's Open Access Transmission Service Tariff (the Tariff) entered into between Cinergy and British Columbia Power Exchange Corp., (British).

Cinergy and British are requesting an effective date of December 31,1999.

Comment date: February 11, 2000, in accordance with Standard Paragraph E at the end of this notice.

33. Cinergy Services, Inc.

[Docket No. ER00-1207-000]

Take notice that on January 24, 2000, Cinergy Services, Inc., collectively as agent for and on behalf of its utility operating company affiliates, The Cincinnati Gas & Electric Company and PSI Energy, Inc. (Cinergy), tendered for filing a service agreement under Cinergy's Market-Based Power Sales Standard Tariff-MB (the Tariff) entered into between Cinergy and Allegheny Energy Supply Company, LLC (AESC).

Cinergy and AESC are requesting an effective date of January 13, 2000.

Comment date: February 11, 2000, in accordance with Standard Paragraph E at the end of this notice.

34. Cinergy Services, Inc.

[Docket No. ER00-1220-000]

Take notice that on January 24, 2000, Cinergy Services, Inc. (Cinergy), tendered for filing a service agreement under Cinergy's Open Access Transmission Service Tariff (the Tariff) entered into between Cinergy and Cinergy Services, Inc. (Cinergy, the Customer).

This service agreement has a yearly firm transmission service with American Electric Power via the Gibson Generating Station Unit No's. 1-5.

Cinergy and Cinergy, the Customer are requesting an effective date of January 1, 2000.

Comment date: February 11, 2000, in accordance with Standard Paragraph E at the end of this notice.

35. Cinergy Services, Inc.

[Docket No. ER00-1222-000]

Take notice that on January 24, 2000, Cinergy Services, Inc. (Cinergy), tendered for filing a Non-Firm Point-To-Point Service Agreement under Cinergy's Open Access Transmission Service Tariff (the Tariff) entered into between Cinergy and British Columbia Power Exchange Corp., (British).

Cinergy and British are requesting an effective date of December 31, 1999.

Comment date: February 11, 2000, in accordance with Standard Paragraph E at the end of this notice.

36. Fitchburg Gas and Electric Light Company

[Docket No. ER00-1215-000]

Take notice that on January 24, 2000, Fitchburg Gas and Electric Light Company (FG&E), tendered for filing changes to the rate set forth in FG&E's Open Access Transmission Tariff, FERC Electric Tariff, First Revised Volume No. 4. The changes reflect a decrease in FG&E's Transmission Plant and corresponding decrease in FG&E's rate for transmission service.

Comment date: February 11, 2000, in accordance with Standard Paragraph E at the end of this notice.

37. Cinergy Services, Inc.

[Docket No. ER00-1216-000]

Take notice that on January 24, 2000, Cinergy Services, Inc., on behalf of its Operating Company affiliates, The Cincinnati Gas & Electric Company and PSI Energy, Inc. (COC), tendered for filing an executed service agreement between COC and Engage Energy US, L. P. (Engage), replacing the unexecuted service agreement filed in April 1999 under Docket No. ER99-2511-000 per COC FERC Electric Market-Based Power Sales Tariff, Original Volume No. 7-MB.

Cinergy is requesting an effective date of May 1, 1999 and the same Rate Designation as per the original filing.

Comment date: February 11, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-2457 Filed 2-3-00; 8:45 am]

BILLING CODE 6717-01-P